DEPARTMENT OF HOMELAND SECURITY

U.S. Customs and Border Protection

[Docket No. USCBP-2015-0020]

The U.S. Customs and Border Protection Airport and Seaport Inspections User Fee Advisory Committee (UFAC); Correction

AGENCY: U.S. Customs and Border Protection, Department of Homeland Security (DHS).

ACTION: Committee Management; Notice of Federal Advisory Public Committee Meeting; correction.

SUMMARY: U.S. Customs and Border Protection (CBP) published in the Federal Register on May 14, 2015 [80 FR 27694], a document announcing that the U.S. Customs and Border Protection Airport and Seaport Inspections User Fee Advisory Committee (UFAC) will meet on Tuesday, June 2, 2015, in Washington, DC. This document corrects that May 14, 2015, document to reflect the correct time zone for the meeting of Eastern Daylight Savings (EDS) time rather than Eastern Standard Time (EST) to prevent confusion, if any.

DATES: The UFAC will meet on Tuesday, June 2, 2015, from 1:00 p.m. to 2:30 p.m. EDT.

FOR FURTHER INFORMATION CONTACT: Ms. Michele Snavely, Paralegal, Regulations and Rulings, Office of International Trade, (202) 325-0354.

Correction

In notice document, FR Doc. 2015-11619, beginning on page 27694 in the issue of Thursday, May 14, 2015, make the following corrections in the first column on page 27695:

Remove “EST” and replace it with “EDT” the three (3) times that it appears in the DATES: section. Please note that all other information in the May 14, 2015, notice is unchanged.

Dated: May 14, 2015.
Joanne Roman Stump,
Acting Director, Regulations and Disclosure Law Division, U.S. Customs and Border Protection.

[FR Doc. 2015-12079 Filed 5-18-15; 8:45 am]

BILLING CODE 9111-14-P